DEPARTMENT OF ENERGY

Federal Energy Regulatory Commission

Combined Notice of Filings

Take notice that the Commission has received the following Natural Gas and Oil Pipeline Rate and Refund Report filings:

Filings Instituting Proceedings

Docket Numbers: RP24-60-000.

Applicants: Pembina Midstream (U.S.A.) Inc., Crescent Point Energy U.S. Corp.

Description: Joint Petition for Limited Waiver of Capacity Release Regulations, et al. of Pembina Midstream (U.S.A.) Inc., et al.

Filed Date: 10/26/23.

Accession Number: 20231026-5097.

Comment Date: 5 p.m. ET 11/7/23.

Docket Numbers: RP24-61-000.

Applicants: Transcontinental Gas Pipe Line Company, LLC.

Description: § 4(d) Rate Filing: Rate Schedule GSS LSS SS-2 Tracker Filing Effective 11/1/23 to be effective 11/1/2023.

Filed Date: 10/26/23.

Accession Number: 20231026-5138.

Comment Date: 5 p.m. ET 11/7/23.

Docket Numbers: RP24-62-000.

Applicants: Midwestern Gas Transmission Company.

Description: Compliance filing: 2022-2023 Cashout Report to be effective N/A.

Filed Date: 10/27/23.

Accession Number: 20231027-5038.

Comment Date: 5 p.m. ET 11/8/23.

Docket Numbers: RP24-63-000.

Applicants: ETC Tiger Pipeline, LLC.

Description: § 4(d) Rate Filing: Amended NRA #3—BP Energy Co to be effective 11/1/2023.

Filed Date: 10/27/23.

Accession Number: 20231027-5042.

Comment Date: 5 p.m. ET 11/8/23.

Docket Numbers: RP24-64-000.

Applicants: Transwestern Pipeline Company, LLC.

Description: § 4(d) Rate Filing: Negotiated Rate Filing—Targa to be effective 11/1/2023.

Filed Date: 10/27/23.

Accession Number: 20231027-5043.

Comment Date: 5 p.m. ET 11/8/23.

Docket Numbers: RP24-65-000.

Applicants: Midwestern Gas Transmission Company.

Description: Compliance filing: 2022-2023 Gas Sales and Purchases Report to be effective N/A.

Filed Date: 10/27/23.

Accession Number: 20231027-5044.

Comment Date: 5 p.m. ET 11/8/23.

Docket Numbers: RP24-66-000.

Applicants: Rover Pipeline LLC.

Description: § 4(d) Rate Filing: Housekeeping Filing on 10-27-23 to be effective 11/27/2023.

Filed Date: 10/27/23.

Accession Number: 20231027-5053.

Comment Date: 5 p.m. ET 11/8/23.

Docket Numbers: RP24-67-000.

Applicants: Rover Pipeline LLC.

Description: § 4(d) Rate Filing: Vol 1-A Housekeeping Filing on 10-27-23 to be effective 11/27/2023.

Filed Date: 10/27/23.

Accession Number: 20231027-5058.

Comment Date: 5 p.m. ET 11/8/23.

Docket Numbers: RP24-68-000.

Applicants: Texas Eastern Transmission, LP.

Description: Compliance filing: TETLP October 2023 Penalty Disbursement Report to be effective N/A.

Filed Date: 10/27/23.

Accession Number: 20231027-5067.

Comment Date: 5 p.m. ET 11/8/23.

Docket Numbers: RP24-69-000.

Applicants: Viking Gas Transmission Company.

Description: Compliance filing: 2022-2023 Gas Sales and Purchases Report to be effective N/A.

Filed Date: 10/27/23.

Accession Number: 20231027-5072.

Comment Date: 5 p.m. ET 11/8/23.

Docket Numbers: RP24-70-000.

Applicants: Guardian Pipeline, L.L.C.

Description: Compliance filing: 2022-2023 Gas Sales and Purchases Report to be effective N/A.

Filed Date: 10/27/23.

Accession Number: 20231027-5076.

Comment Date: 5 p.m. ET 11/8/23.

Docket Numbers: RP24-71-000.

Applicants: OkTex Pipeline Company, L.L.C.

Description: Compliance filing: 2022-2023 Gas Sales and Purchases Report to be effective N/A.

Filed Date: 10/27/23.

Accession Number: 20231027-5080.

Comment Date: 5 p.m. ET 11/8/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP23-724-001.

Applicants: MountainWest Overthrust Pipeline, LLC.

Description: Compliance filing: Statement of Rates—Settlement Compliance to be effective 12/1/2023.

Filed Date: 10/27/23.

Accession Number: 20231027-5029.

Comment Date: 5 p.m. ET 11/8/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 27, 2023.
Debbie-Anne A. Reese,
Deputy Secretary.

[FR Doc. 2023-24261 Filed 11-2-23; 8:45 am]

BILLING CODE 6717-01-P